DEPARTMENT OF THE INTERIOR

Fish and Wildlife Service

Receipt of an Application for Extension of an Incidental Take Permit for the Red-Cockaded Woodpecker by the Woodlands Group, LLC, in Livingston Parish, LA

AGENCY: Fish and Wildlife Service, Interior.

ACTION: Notice.

SUMMARY: On July 21, 2003, the Fish and Wildlife Service (Service) issued an incidental take permit (ITP) associated with a habitat conservation plan (HCP) under section 10(a)(1)(B) of the Endangered Species Act of 1973 (Act) (16 U.S.C. 1539), as amended, for the incidental take of the federally endangered red-cockaded woodpecker (Picoides borealis) (RCW) to the Woodlands Group, LLC (Permittee). The permit (TE037661-0) was for a period of four years and expired on July 31, 2007. The requested permit extension by the Permittee will extend the permit expiration date nine years.

DATES: Written comments should be sent to the Fish and Wildlife Service's Regional Office (see ADDRESSES) and should be received on or before November 1, 2007.

ADDRESSES: Persons interested in reviewing the permit extension application or other related documents may obtain a copy by submitting a written request to James Boggs, Acting Field Office Supervisor, Fish and Wildlife Service, 646 Cajundome Boulevard, Suite 400, Lafayette, Louisiana 70506. Documents will be available for public inspection by appointment during normal business hours at the Fish and Wildlife Service's Regional Office, 1875 Century Boulevard, Suite 200, Atlanta, Georgia 30345 (Attn: Aaron Valenta).

FOR FURTHER INFORMATION CONTACT: Aaron Valenta, Regional HCP Coordinator (see ADDRESSES), telephone: 404/679-4144, or James Boggs (see ADDRESSES), telephone 337/291-3115.

SUPPLEMENTARY INFORMATION: We specifically request information, views, and opinions from the public via this notice on the Federal action, including the identification of any other aspects of the human environment not already identified in the Environmental Assessment (EA). Further, we specifically solicit information regarding the adequacy of the HCP as measured against our ITP issuance criteria found in 50 CFR parts 13 and 17.

The permit authorizes take of RCWs on approximately 99 of 971 acres owned by the Permittee in Livingston Parish, Louisiana. The proposed take would be incidental to otherwise lawful activities, including timber harvest and typical forest management activities on the Permittee's property. The extension request covers the same activities covered by the HCP and existing permit. There will be no increase in take beyond that anticipated in the original permit.

The previously prepared HCP specifies the impacts that are likely to result from the taking and the measures the Permittee has taken to minimize and mitigate such impacts. The ITP authorized take of three RCW groups on the Permittee's property incidental to timber management activities. The mitigation and minimization measures in the HCP include: No take of RCWs during the breeding season; establishment of three replacement groups on Big Branch Marsh National Wildlife Refuge by provisioning recruitment territories; translocating juveniles fledged on the Permittee's property; monitoring the formation of breeding pairs; funding an endowment for habitat management (prescribed burning); and, translocating adult RCWs from the Permittee's property to Fort Polk Military Reservation in Louisiana prior to harvesting timber. The Permittee successfully completed the required minimization and mitigation measures outlined in the HCP by July 2004.

RCW nesting and foraging habitat were removed in one cluster incidental to the timber harvest that was completed in that cluster. Due to poor market conditions, the Permittee had not harvested timber in the remaining two RCW clusters by the time the ITP expired and thus requests extension of the ITP. If renewed, annual reporting will no longer be required because the Permittee has completed the specified minimization and mitigation requirements. However, all other permit terms and conditions will remain the same, and no additional take will be authorized. The existing HCP satisfies all statutory issuance criteria and is therefore applicable to the extension of this ITP.

If you wish to comment, you may submit comments by any one of several methods. Please reference permit number TE037661-0, The Woodlands Group, LLC, in such comments. You may mail comments to the Fish and Wildlife Service's Regional Office (see ADDRESSES). You may also comment via the internet to aaron_valenta@fws.gov. Please include your name and return address in your internet message. If you do not receive a confirmation from us that we have received your internet message, contact us directly at either telephone number listed previously (see FOR FURTHER INFORMATION CONTACT).

Finally, you may hand-deliver comments to either Fish and Wildlife Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

We will evaluate whether the extension of the section 10(a)(1)(B) ITP complies with section 7 of the Act by reviewing our previously prepared intra-Service section 7 consultation. The results of the biological opinion, in combination with the above findings, will be used in the final analysis to determine whether or not to issue an extension of this ITP.

Dated: August 30, 2007.
Cynthia K. Dohner,
Acting Regional Director, Southeast Region.

[FR Doc. E7-19402 Filed 10-1-07; 8:45 am]

BILLING CODE 4310-55-P